DEPARTMENT OF TRANSPORTATION

Federal Aviation Administration

Tenth Meeting: RTCA Next Gen Advisory Committee (NAC)

AGENCY: Federal Aviation Administration (FAA), U.S. Department of Transportation (DOT).

ACTION: Notice of RTCA NextGen Advisory Committee (NAC).

SUMMARY: The FAA is issuing this notice to advise the public of the tenth meeting of the RTCA NextGen Advisory Committee (NAC).

DATES: The meeting will be held September 19, 2013 from 9:00 a.m. to 3:00 p.m.

ADDRESSES: The meeting will be at RTCA Headquarters, NBAA/Colson Conference Rooms, 1150 18th Street NW., Suite 910, Washington DC 20036.

FOR FURTHER INFORMATION CONTACT: The RTCA Secretariat, 1150 18th Street NW., Suite 910, Washington, DC, 20036, by telephone at (202) 833-9339, fax at (202) 833-9434, or the Web site at http://www.rtca.org. Alternately, contact Andy Cebula at (202) 330-0652, or email acebula@rtca.org.

SUPPLEMENTARY INFORMATION: Pursuant to section 10(a)(2) of the Federal Advisory Committee Act (Pub. L. 92-463, 5 U.S.C., App.), notice is hereby given for a NextGen Advisory Committee meeting. The agenda will include the following:

September 19, 2013

• Opening of Meeting and Introduction of NAC Members—Chairman Bill Ayer, Chairman, Alaska Air Group.

• Official Statement of Designated Federal Official—The Honorable Michael Whitaker, FAA Deputy Administrator.

• Review and approval of June 4, 2013 Meeting Summary.

• Chairman's Report—Chairman Ayer.

• FAA Report—Mr. Whitaker.

• FAA NextGen Performance SnapShots

• Featured PBN Implementation Location.

• Recommendation for Fuel Data Sharing for Measuring NextGen Performance.

○ Recommendation on data sources to track and analyze the impacts of NextGen developed by the Business Case and Performance Metrics Work Group.

• Recommendation for NextGen Activity Prioritization.

○ Recommendation for NextGen activity and prioritization and revised list of NextGen integrated capabilities and locations developed by an Ad Hoc Committee of the NAC and the NAC Subcommittee.

• Performance Based Navigation (PBN).

○ Recommendation for Prioritization of New or the Revision or Elimination of Existing PBN Procedures developed by Operational Capabilities Work Group.

• Recommendation for Future Metroplex Optimization Activity.

○ Recommendation for Future Use of Optimization of Airspace and Procedures in the Metroplex (OAPM) developed by the Operational Capabilities Work Group

• Anticipated Issues for NAC consideration and action at the next meeting.

• Other Business.

• Adjourn.

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on August 27, 2013.
Paige L. Williams,
Management Analyst, Business Operations Group, ANG-A12, Federal Aviation Administration.

[FR Doc. 2013-21374 Filed 9-3-13; 8:45 am]

BILLING CODE 4910-13-P